DEPARTMENT OF COMMERCE

International Trade Administration

Notice of Scope Rulings

AGENCY: Enforcement and Compliance, International Trade Administration, Department of Commerce.

DATES: Applicable March 28, 2019.

SUMMARY: The Department of Commerce (Commerce) hereby publishes a list of scope rulings and anticircumvention determinations made between October 1, 2017, and December 31, 2017, inclusive. We intend to publish future lists after the close of the next calendar quarter.

FOR FURTHER INFORMATION CONTACT: Brenda E. Brown, AD/CVD Operations, Customs Liaison Unit, Enforcement and Compliance, International Trade Administration, U.S. Department of Commerce, 1401Constitution Avenue NW, Washington, DC 20230; telephone: 202-482-4735.

SUPPLEMENTARY INFORMATION:

Background

Commerce regulations provide that the Secretary will publish in the Federal Register a list of scope rulings on a quarterly basis.¹ Our most recent notification of scope rulings was published on (Thursday, March 14, 2019).² This current notice covers all scope rulings and anticircumvention determinations made by Enforcement and Compliance between October 1, 2017, and December 31, 2017, inclusive.

¹ See 19 CFR 351.225(o).

² See Notice of Scope Rulings, 84 FR 9295 (March 14, 2019).

Scope Rulings Made Between October 1, 2017 and December 31, 2017

A-433-812; A-423-812; A-351-847, A-570-047; A-427-828; A-428-844; A-475-834; A-588-875; A-580-877; A-791-822; A-583-858; A-489-828; C-570-048; C-580-888; C-351-848: Certain Carbon and Alloy Steel Cut-to-Length Plate (Cut-to-Length Plate) From Austria, Belgium, Brazil, the People's Republic of China, France, the Federal Republic of Germany, Italy, Japan, the Republic of Korea, the Republic of South Africa, Taiwan, and Turkey

Requestor: PCS Company; Certain preconfigured parts for mold bases used in plastic injection molding machines are not within the scope of the antidumping and countervailing duty orders on cut-to-length plate because the totality of the further processing results in a downstream product that is not cut-to-length plate and is thus not covered by the order; October 11, 2017.

A-201-805: Certain Circular Welded Non-Alloy Steel Pipe From Mexico

Requestor: Productos Laminados de Monterrey S.A. de C.V., Aceros Cuatros Caminos S.A. de C.V., and Prolamsa Inc. (collectively, Prolamsa); Commerce determined that five types of circular welded galvanized tubes produced by Prolamsa are not covered by the scope of the antidumping order on certain circular welded non-alloy steel pipe from Mexico because their outer diameters are neither found within the standard sizes (including tolerances) for standard pipe schedules 10, 40, and 80, nor within the standard sizes (including tolerances) for fence tubing, and they are therefore mechanical tubing, which is excepted from the scope of the order; December 18, 2017.

A-570-814; A-570-910; A-570-930; A-570-956; C-570-911; C-570-931; C-570-957: Carbon Steel Butt-Weld Pipe Fittings; Circular Welded Carbon-Quality Steel Pipe; Circular Welded Austenitic Stainless Steel Pressure Pipe; and Seamless Carbon and Alloy Steel Standard, Line, and Pressure Pipe From the People's Republic of China: Preliminary Scope Ruling SinoStruct Engineered and Manufactured Pipe Spools

Requestor: SinoStruct Proprietary Limited (SinoStruct); Commerce preliminarily found that pipe spools produced by SinoStruct using third country components that are not subject to any AD and CVD orders are outside of the scope of the AD and CVD orders noted above. Additionally, Commerce preliminarily determined that SinoStruct and importers of pipe spools produced by Sinostruct certify that all the components in the pipe spools are not subject to Commerce's AD or CVD orders; December 4, 2017.

A-570-899: Certain Artist Canvas From the People's Republic of China

Requestor: Innovative Creations Inc. (Innovative Creations); Commerce determined that Innovative Creations' exports of artist canvas have the same physical characteristics as products previously determined to be outside of the scope of the Order; specifically, artist canvases that are woven and primed in a third country or third countries before being further processed (i.e., cut, stretched, framed, or packaged) in the People's Republic of China (PRC) and are subsequently exported from the PRC to the United States. Accordingly, Commerce determined that those artist canvas are outside of the scope of the order; October 10, 2017.

A-570-958 and C-570-959: Certain Coated Paper Suitable for High-Quality Print Graphics Using Sheet-Fed Presses From the People's Republic of China

Requester: Greenbrier International, Inc. (Greenbrier); Commerce determined that the neon and white poster board products imported by Greenbrier are not within the scope of the antidumping and countervailing duty orders on certain coated paper suitable for high-quality print graphics using sheet-fed presses because Greenbrier's neon poster board does not fall under the scope language's requirement that the paper and paperboard be coated with inorganic material. Additionally, Greenbrier's neon and white poster board are not intended for the commercial print industry, which is outside the scope language's requirement that the paper and paperboard be specifically suitable for high quality print graphics using sheet-fed presses, namely for the commercial print market; October 30, 2017.

A-570-822: Certain Helical Spring Lock Washers From the People's Republic of China

Requestor: MacLean Power, L.L.C. (MPS); certain component part(s) of MPS' pole line hardware that are produced in the People's Republic of China (PRC) and imported by MPS are within the scope of the antidumping duty order on certain helical spring lock washers (HSLWs) from the PRC. Commerce finds that the component part of the pole line hardware that constitute subject merchandise (viz., the HSLWs) are covered by the order when examined individually and in their own right because these component part meet the language of the antidumping duty order. Also, there is no basis in the language of the order to exclude them when HSLWs are incorporated into pole line hardware; October 05, 2017.

A-570-901: Certain Lined Paper Products From Republic of China

Requestor: Neenah Paper Inc., (Neenah); Commerce determined that spine-stitched journals made of U.S.-origin paper imported by Neenah were substantially transformed into subject merchandise due to the production processes undertaken in China and, thus, were within the scope of the order; December 15, 2017.

A-570-909: Certain Steel Nails From the People's Republic of China

Requestor: Fastenal Company Purchasing. The zinc, nylon, and steel anchors, i.e., two piece nails, included in the scope request are covered by the scope of the antidumping duty order on certain steel nails from the People's Republic of China because they are within the scope of the Order and are not covered by any of the exclusions listed in the scope of the Order. More specifically, we determined that the steel “pin” used as part of an anchor is, in fact, a steel nail, due to their identical description and function, and that separating the steel nail from the zinc, nylon or steel anchor would render the product unusable. Moreover, the International Trade Commission specifically listed a masonry anchor (e.g., a zinc anchor and a steel nail) as an example of a two-piece nail; October 13, 2017.

A-570-909: Certain Steel Nails From the People's Republic of China

Requestor: Simpson Strong-Tie Company (Simpson); Countersunk Split Drive (CSD); and Duplex Split Drive (DSD); Commerce determined that anchors are covered by the scope of the antidumping duty order on steel nails from the People's Republic of China because the description of the split drive anchors fits the plain description of the scope covering nails; December 1, 2017.

A-570-967 and C-570-968: Telescoping Aluminum Pool Poles From the People's Republic of China

Requestor: Westbay LLC; The 360 model numbers included in the nine-model series of telescoping pool poles included in the scope request are not covered by the scope of the antidumping and countervailing duty orders on aluminum extrusions from the People's Republic of China because the extruded aluminum components are parts of a fully completed product, which also includes non-aluminum pieces; November 6, 2017.

Interested parties are invited to comment on the completeness of this list of completed scope inquiries. Any comments should be submitted to the Deputy Assistant Secretary for AD/CVD Operations, Enforcement and Compliance, International Trade Administration, 1401 Constitution Avenue NW, APO/Dockets Unit, Room 18022, Washington, DC 20230.

This notice is published in accordance with 19 CFR 351.225(o).

Dated: March 25, 2019.
James Maeder,
Associate Deputy Assistant Secretary for Antidumping and Countervailing Duty Operations performing the duties of Deputy Assistant Secretary for Antidumping and Countervailing Duty Operations.

[FR Doc. 2019-05958 Filed 3-27-19; 8:45 am]

BILLING CODE 3510-DS-P